DEPARTMENT OF ENERGY

Federal Energy Regulatory Commission

Combined Notice of Filings #2

Take notice that the Commission received the following electric rate filings:

Docket Numbers: ER23-1271-003.

Applicants: Niagara Mohawk Power Corporation, New York Independent System Operator, Inc.

Description: Compliance filing: Niagara Mohawk Power Corporation submits tariff filing per 35: NMPC Compliance: Segment A Settlement to be effective 8/5/2023.

Filed Date: 6/11/24.

Accession Number: 20240611-5179.

Comment Date: 5 p.m. ET 7/2/24.

Docket Numbers: ER24-2231-000.

Applicants: Southwest Power Pool, Inc.

Description: § 205(d) Rate Filing: 2198R35 Kansas Power Pool NITSA NOA to be effective 6/1/2024.

Filed Date: 6/11/24.

Accession Number: 20240611-5110.

Comment Date: 5 p.m. ET 7/2/24.

Docket Numbers: ER24-2232-000.

Applicants: PJM Interconnection, L.L.C.

Description: § 205(d) Rate Filing: Amendment to ISA No. 4904, Queue No. AA2-119/AC1-055/AD2-192 to be effective 8/11/2024.

Filed Date: 6/11/24.

Accession Number: 20240611-5111.

Comment Date: 5 p.m. ET 7/2/24.

Docket Numbers: ER24-2233-000.

Applicants: The Connecticut Light and Power Company.

Description: § 205(d) Rate Filing: BPUS Generation Develop.m.ent LLC—Engineering and Design Agreement to be effective 6/12/2024.

Filed Date: 6/11/24.

Accession Number: 20240611-5113.

Comment Date: 5 p.m. ET 7/2/24.

Docket Numbers: ER24-2234-000.

Applicants: Midcontinent Independent System Operator, Inc., ITC Midwest LLC.

Description: § 205(d) Rate Filing: Midcontinent Independent System Operator, Inc. submits tariff filing per 35.13(a)(2)(iii: 2024-06-11_SA 4302 ITC Midwest-Interstate Power and Light PCA (Big Cedar) to be effective 8/11/2024.

Filed Date: 6/11/24.

Accession Number: 20240611-5139.

Comment Date: 5 p.m. ET 7/2/24.

Docket Numbers: ER24-2235-000.

Applicants: Reworld Delaware Valley, L.P.

Description: Compliance filing: Notice of Succession to be effective 6/12/2024.

Filed Date: 6/11/24.

Accession Number: 20240611-5149.

Comment Date: 5 p.m. ET 7/2/24.

Docket Numbers: ER24-2236-000.

Applicants: Reworld Essex Company.

Description: Compliance filing: Notice of Succession to be effective 6/12/2024.

Filed Date: 6/11/24.

Accession Number: 20240611-5150.

Comment Date: 5 p.m. ET 7/2/24

Docket Numbers: ER24-2237-000.

Applicants: Reworld Fairfax, LLC.

Description: § 205(d) Rate Filing: Notice of Succession to be effective 6/12/2024.

Filed Date: 6/11/24.

Accession Number: 20240611-5154.

Comment Date: 5 p.m. ET 7/2/24

Docket Numbers: ER24-2238-000.

Applicants: Reworld Haverhill Associates, LLC.

Description: § 205(d) Rate Filing: Notice of Succession to be effective 6/12/2024.

Filed Date: 6/11/24.

Accession Number: 20240611-5159.

Comment Date: 5 p.m. ET 7/2/24.

Docket Numbers: ER24-2239-000.

Applicants: Reworld Hempstead Company.

Description: Compliance filing: Notice of Succession to be effective 6/12/2024.

Filed Date: 6/11/24.

Accession Number: 20240611-5160.

Comment Date: 5 p.m. ET 7/2/24.

Docket Numbers: ER24-2240-000.

Applicants: Reworld Niagara I, LLC.

Description: Compliance filing: Notice of Succession to be effective 6/12/2024.

Filed Date: 6/11/24.

Accession Number: 20240611-5161.

Comment Date: 5 p.m. ET 7/2/24.

Docket Numbers: ER24-2241-000

Applicants: Reworld Plymouth, LLC.

Description: Compliance filing: Notice of Succession to be effective 6/12/2024.

Filed Date: 6/11/24.

Accession Number: 20240611-5162.

Comment Date: 5 p.m. ET 7/2/24.

Docket Numbers: ER24-2242-000.

Applicants: Reworld REC, LLC.

Description: Compliance filing: Notice of Succession to be effective 6/12/2024.

Filed Date: 6/11/24.

Accession Number: 20240611-5163.

Comment Date: 5 p.m. ET 7/2/24.

Docket Numbers: ER24-2243-000.

Applicants: Reworld Union (NJ), LLC.

Description: Compliance filing: Notice of Succession to be effective 6/12/2024.

Filed Date: 6/11/24.

Accession Number: 20240611-5164.

Comment Date: 5 p.m. ET 7/2/24.

Docket Numbers: ER24-2244-000.

Applicants: PJM Interconnection, L.L.C.

Description: § 205(d) Rate Filing: Amendment to ISA No. 6103, Queue No. AC1-091, 092, 093, 094/AC2-184, 185 to be effective 8/11/2024.

Filed Date: 6/11/24.

Accession Number: 20240611-5166.

Comment Date: 5 p.m. ET 7/2/24.

Docket Numbers: ER24-2245-000.

Applicants: Southwest Power Pool, Inc.

Description: § 205(d) Rate Filing: 1534R15 Kansas Municipal Energy Agency NITSA NOA to be effective 6/1/2024.

Filed Date: 6/11/24.

Accession Number: 20240611-5167.

Comment Date: 5 p.m. ET 7/2/24.

Docket Numbers: ER24-2246-000.

Applicants: Southern Company Services, Inc.

Description: Southern Companies submit a Notice of Termination of the Large Generator Interconnection Agreement between SCS and AL SB 5, LLC.

Filed Date: 6/6/24.

Accession Number: 20240606-5212.

Comment Date: 5 p.m. ET 6/27/24.

Docket Numbers: ER24-2248-000.

Applicants: Consolidated Edison Company of New York, Inc.

Description: § 205(d) Rate Filing: Correction of WDS Tqriff 6-2024 to be effective 6/11/2024.

Filed Date: 6/11/24.

Accession Number: 20240611-5175.

Comment Date: 5 p.m. ET 7/2/24.

Docket Numbers: ER24-2249-000.

Applicants: Aron Energy Prepay 41 LLC.

Description: Baseline eTariff Filing: Baseline new to be effective 8/11/2024.

Filed Date: 6/11/24.

Accession Number: 20240611-5193.

Comment Date: 5 p.m. ET 7/2/24.

Docket Numbers: ER24-2250-000.

Applicants: Aron Energy Prepay 42 LLC.

Description: Baseline eTariff Filing: Baseline new to be effective 8/11/2024.

Filed Date: 6/11/24.

Accession Number: 20240611-5194.

Comment Date: 5 p.m. ET 7/2/24.

Docket Numbers: ER24-2251-000.

Applicants: Aron Energy Prepay 43 LLC.

Description: Baseline eTariff Filing: Baseline new to be effective 8/11/2024.

Filed Date: 6/11/24.

Accession Number: 20240611-5198.

Comment Date: 5 p.m. ET 7/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 11, 2024.
Debbie-Anne A. Reese,
Acting Secretary.

[FR Doc. 2024-13291 Filed 6-14-24; 8:45 am]

BILLING CODE 6717-01-P